DEPARTMENT OF COMMERCE

International Trade Administration

[A-533-843]

Certain Lined Paper Products From India: Preliminary Results of Antidumping Duty Administrative Review and Preliminary Determination of No Shipments; 2015-2016

AGENCY: Enforcement and Compliance, International Trade Administration, Department of Commerce.

SUMMARY: In response to requests from interested parties, the Department of Commerce (the Department) is conducting an administrative review of the antidumping duty order on certain lined paper products (CLPP) from India, covering the period September 1, 2015, through August 31, 2016. This review covers two mandatory respondents, Navneet Education Ltd. (Navneet) and SAB International (SAB) and five non-selected companies. We preliminarily find that Navneet and SAB did not sell subject merchandise at less than normal value (NV) during the period of review (POR). Interested parties are invited to comment on these preliminary results.

DATES: Applicable October 6, 2017.

FOR FURTHER INFORMATION CONTACT: Cindy Robinson or Sam Brummitt, AD/CVD Operations, Office III, Enforcement and Compliance, International Trade Administration, U.S. Department of Commerce, 1401 Constitution Avenue NW., Washington, DC 20230; telephone (202) 482-3797 or (202) 482-7851, respectively.

Background

On November 9, 2016, the Department published a notice of initiation of an administrative review of the antidumping order on lined paper from India.¹ The Department initiated this administrative review covering the following nine companies: Kokuyo Riddhi Paper Products Pvt. Ltd. (Kokuyo Riddhi), Lodha Offset Limited (Lodha), Magic International Pvt. Ltd. (Magic), Marisa International (Marisa), Navneet, Pioneer Stationery Pvt Ltd. (Pioneer), SAB, SGM Paper Products, and Super Impex.

¹ See Initiation of Antidumping and Countervailing Duty Administrative Reviews, 81 FR 78778 (November 9, 2016) (Initiation Notice).

On May 15, 2017, the Department extended the deadline for the preliminary results to October 2, 2017.² From July 19, 2017, through July 28, 2017, the Department conducted cost and sales verifications of SAB.³

² See Memorandum, “Certain Lined Paper Products from India: Extension of Time Limit for Preliminary Results of Antidumping Duty Administrative Review; 2015-2016,” dated May 15, 2017.

³ See Memorandum, “2015-2016 Antidumping Duty Administrative Review of Certain Lined Paper Products from India: Verification of Sales Questionnaire Responses of SAB International” dated September 29, 2017 (SAB Sales Verification Report); see also Memorandum, “2015-2016 Antidumping Administrative Review of Certain Lined Paper Products from India: Verification of Cost Questionnaire Responses of SAB International” dated September 29, 2017 (SAB Cost Verification Report).

Scope of the Order

The merchandise covered by the CLPP Order ⁴ is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁵

⁴ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

⁵ For a complete description of the Scope of the Order, see Memorandum titled, “Decision Memorandum for the Preliminary Results of Antidumping Duty Administrative Review: Certain Lined Paper Products from India; 2015-2016,” dated concurrently with and hereby adopted by this notice (Preliminary Decision Memorandum).

Preliminary Determination of No Shipments

Lodha and Marisa reported that they made no shipments of subject merchandise to the United States during the POR. To confirm Lodha's and Marisa's no shipment claims, the Department issued a no-shipment inquiry to U.S. Customs and Border Protection (CBP) requesting that it review Lodha's and Marisa's no-shipment claims.⁶ CBP did not report that it had any information to contradict Lodha's and Marisa's claims of no shipments during the POR.

⁶ See No Shipments Inquiry for certain lined paper products from India Produced and/or Exported by Lodha Offset and Marisa International (A-533-843), message number 6365302 (December 30, 2016).

Given that Lodha and Marisa certified that they made no shipments of subject merchandise to the United States during the POR, and there is no information calling their claims into question, we preliminarily determine that Lodha and Marisa did not have any reviewable transactions during the POR. Consistent with the Department's practice, we will not rescind the review with respect to Lodha and Marisa but, rather, will complete the review and issue instructions to CBP based on the final results.⁷

⁷ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR, at 51306-51307 (August 28, 2014).

Methodology

The Department is conducting this review in accordance with section 751(a)(2) of the Tariff Act of 1930, as amended (the Act). Constructed export price or export price is calculated in accordance with section 772 of the Act. Normal value is calculated in accordance with section 773 of the Act. For a full description of the methodology underlying our preliminary results, see the Preliminary Decision Memorandum. The Preliminary Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Preliminary Decision Memorandum can be accessed directly on the internet at http://enforcement.trade.gov/frn/index.html. The signed Preliminary Decision Memorandum and the electronic version of the Preliminary Decision Memorandum are identical in content.

Calculation of Normal Value Based on Constructed Value (CV)

SAB reported that it made no sales in the home market during the POR.⁸ Pursuant to 773(a)(1)(C)(i) of the Act, we examined SAB's third country sales and have determined that such sales do not constitute a viable comparison market (CM) within the meaning of section 773(a)(1)(B)(ii)(II) of the Act.⁹ Therefore, for these preliminary results, we relied on CV as the basis for calculating NV, in accordance with sections 773(a)(4) and (e) of the Act.¹⁰

⁸ See SAB's February 14, 2017 Section A Questionnaire Response (SAB February 14, 2017 AQR), at 3-4 and Exhibit A-1.

⁹ Id.

¹⁰ See Preliminary Decision Memorandum, at 18-22.

Preliminary Results of the Review

As a result of this review, we preliminarily calculated a dumping margin of zero percent for both Navneet and SAB. We are applying to the non-selected companies the rates calculated for the mandatory respondents in these preliminary results, as referenced below.¹¹

¹¹ See Albemarle Corp. & Subsidiaries v. United States, 821 F.3d 1345 (Fed. Cir. 2016) (Albemarle).

Producer/exporter | Weighted- average dumping margin (percent)
Navneet Education Ltd | 0.00
SAB International | 0.00
Kokuyo Riddhi Paper Products Pvt. Ltd | 0.00
Magic International Pvt. Ltd | 0.00
Pioneer Stationery Pvt Ltd | 0.00
SGM Paper Products | 0.00
Super Impex | 0.00

Assessment Rate

Upon issuance of the final results, the Department shall determine, and CBP shall assess, antidumping duties on all appropriate entries covered by this review. If the weighted-average dumping margin for Navneet or SAB is not zero or de minimis (i.e., less than 0.5 percent), we will calculate importer-specific ad valorem antidumping duty assessment rates based on the ratio of the total amount of dumping calculated for the importer's examined sales to the total entered value of those same sales in accordance with 19 CFR 351.212(b)(1).¹² We will instruct CBP to assess antidumping duties on all appropriate entries covered by this review when the importer-specific assessment rate calculated in the final results of this review is above de minimis (i.e., 0.5 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

¹² In these preliminary results, the Department applied the assessment rate calculation method adopted in Antidumping Proceedings: Calculation of the Weighted-Average Dumping Margin and Assessment Rate in Certain Antidumping Proceedings: Final Modification, 77 FR 8101 (February 14, 2012).

In accordance with the Department's “automatic assessment” practice, for entries of subject merchandise during the POR produced by each respondent for which it did not know that its merchandise was destined for the United States, we will instruct CBP to liquidate unreviewed entries at the all-others rate if there is no rate for the intermediate company(ies) involved in the transaction.

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for respondents noted above will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 3.91 percent, the all-others rate established in the investigation as modified by the section 129 determination.¹³ These cash deposit requirements, when imposed, shall remain in effect until further notice.

¹³ See Implementation of the Findings of the WTO Panel in US—Zeroing (EC): Notice of Determinations Under Section 129 of the Uruguay Round Agreements Act and Revocations and Partial Revocations of Certain Antidumping Duty Orders, 72 FR 25261 (May 4, 2007).

Disclosure and Public Comment

The Department will disclose to parties to this proceeding the calculations performed in reaching the preliminary results within five days of the date of publication of these preliminary results.¹⁴ Pursuant to 19 CFR 351.309(c)(1)(ii), interested parties may submit case briefs not later than 30 days after the date of publication of this notice. Rebuttal briefs, limited to issues raised in the case briefs, may be filed not later than five days after the date for filing case briefs.¹⁵ Parties who submit case briefs or rebuttal briefs in this proceeding are requested to submit with the argument: (1) A statement of the issue, (2) a brief summary of the argument, and (3) a table of authorities.¹⁶ All briefs must be filed electronically using ACCESS. An electronically filed document must be received successfully in its entirety by the Department's electronic records system, ACCESS.

¹⁴ See 19 CFR 351.224(b).

¹⁵ See 19 CFR 351.309(d).

¹⁶ See 19 CFR 351.309(c)(2) and (d)(2).

Interested parties who wish to request a hearing must submit a written request to the Assistant Secretary for Enforcement and Compliance, U.S. Department of Commerce, using Enforcement and Compliance's ACCESS system within 30 days of publication of this notice.¹⁷ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹⁸ Parties should confirm by telephone the date, time, and location of the hearing.

¹⁷ See 19 CFR 351.310(c).

¹⁸ See 19 CFR 351.310.

Unless the deadline is extended pursuant to section 751(a)(3)(A) of the Act and 19 CFR 351.213(h)(2), the Department will issue the final results of this administrative review, including the results of our analysis of the issues raised by the parties in their case briefs, within 120 days after issuance of these preliminary results.

Notification to Importers

This notice serves as a preliminary reminder to importers of their responsibility under 19 CFR 351.402(f)(2) to file a certificate regarding the reimbursement of antidumping duties and/or countervailing duties prior to liquidation of the relevant entries during this review period. Failure to comply with this requirement could result in the Secretary's presumption that reimbursement of antidumping duties occurred and increase the subsequent assessment of the antidumping duties.

These preliminary results of review are issued and published in accordance with sections 751(a)(1) and 777(i)(1) of the Act and 19 CFR 351.213(h) and 351.221(b)(4).

Dated: October 2, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Extension of Preliminary Results

IV. Scope of the Order

V. Discussion of Methodology

Preliminary Determination of No Shipments

Date of Sale

Product Comparisons

Comparisons to Normal Value

A. Determination of Comparison Method

B. Results of the Differential Pricing Analysis

Export Price

Normal Value

A. Home Market Viability

B. Level of Trade

Navneet

SAB

C. Sales to Affiliated Customers

D. Cost of Production Analysis

1. Calculation of COP

2. Test of Comparison Market Prices and COP

3. Results of COP Test

E. Calculation of Normal Value Based on Comparison Market Prices

F. Calculation of Normal Value Based on Constructed Value

Margin for Companies Not Selected for Individual Examination

Currency Conversion

VI. Recommendation

[FR Doc. 2017-21588 Filed 10-5-17; 8:45 am]

BILLING CODE 3510-DS-P